DEPARTMENT OF ENERGY

Federal Energy Regulatory Commission

Combined Notice of Filings #2

Take notice that the Commission received the following electric rate filings:

Docket Numbers: ER11-3697-000.

Applicants: Southern California Edison Company.

Description: Informational Filing of Notice of Revision to Formula Transmission Rate Annual Update of Southern California Edison Company.

Filed Date: 11/30/16.

Accession Number: 20161130-5418.

Comments Due: 5 p.m. ET 12/21/16.

Docket Numbers: ER12-1436-011; ER10-2329-008; ER10-2740-010; ER10-2742-009; ER10-3099-017; ER10-3143-018; ER10-3169-011; ER10-3300-014; ER12-1260-010; ER13-1488-008; ER13-1793-008; ER14-152-006; ER14-153-006; ER14-154-006; ER16-517-001.

Applicants: Eagle Point Power Generation LLC, Elgin Energy Center, LLC, Gibson City Energy Center, LLC, Grand Tower Energy Center, LLC, Hazle Spindle, LLC, La Paloma Generating Company, LLC, Michigan Power Limited Partnership, Quantum Pasco Power, LP, RC Cape May Holdings, LLC, Rocky Road Power, LLC, Sabine Cogen, LP, Shelby County Energy Center, LLC, Tilton Energy LLC, Vineland Energy, LLC, Stephentown Spindle, LLC.

Description: Notice of Non-Material Change in Status of the Rockland Sellers.

Filed Date: 11/30/16.

Accession Number: 20161130-5427.

Comments Due: 5 p.m. ET 12/21/16.

Docket Numbers: ER17-426-000.

Applicants: Southwest Power Pool, Inc.

Description: Offer of Settlement of Southwest Power Pool, Inc., on behalf of Missouri River Energy Services and member Denison Municipal Utilities.

Filed Date: 11/30/16.

Accession Number: 20161130-5420.

Comments Due: 5 p.m. ET 12/21/16.

Docket Numbers: ER17-460-000.

Applicants: Elgin Energy Center, LLC.

Description: Compliance filing: Revised MBR Tariff to be effective 1/30/2017.

Filed Date: 12/1/16.

Accession Number: 20161201-5188.

Comments Due: 5 p.m. ET 12/22/16.

Docket Numbers: ER17-461-000.

Applicants: Michigan Power Limited Partnership.

Description: Compliance filing: Revised MBR Tariff to be effective 1/30/2017.

Filed Date: 12/1/16.

Accession Number: 20161201-5189.

Comments Due: 5 p.m. ET 12/22/16.

Docket Numbers: ER17-462-000.

Applicants: Tilton Energy LLC.

Description: Compliance filing: Revised MBR Tariff to be effective 1/30/2017.

Filed Date: 12/1/16.

Accession Number: 20161201-5197.

Comments Due: 5 p.m. ET 12/22/16.

Docket Numbers: ER17-463-000.

Applicants: Rocky Road Power, LLC.

Description: Compliance filing: Revised MBR Tariff to be effective 1/30/2017.

Filed Date: 12/1/16.

Accession Number: 20161201-5208.

Comments Due: 5 p.m. ET 12/22/16.

Docket Numbers: ER17-464-000.

Applicants: New England Power Pool Participants Committee.

Description: § 205(d) Rate Filing: Dec 2016 Membership Filing to be effective 11/1/2016.

Filed Date: 12/1/16.

Accession Number: 20161201-5212.

Comments Due: 5 p.m. ET 12/22/16.

Docket Numbers: ER17-465-000.

Applicants: Appalachian Power Company.

Description: § 205(d) Rate Filing: OATT—Revise Attachment K, TCC and TNC Rate Update to be effective 12/31/9998.

Filed Date: 12/1/16.

Accession Number: 20161201-5244.

Comments Due: 5 p.m. ET 12/22/16.

Take notice that the Commission received the following qualifying facility filings:

Docket Numbers: QF17-244-000.

Applicants: Allegheny Solar 1, LLC.

Description: Refund Report of Allegheny Solar 1, LLC under QF17-244.

Filed Date: 12/1/16.

Accession Number: 20161201-5245.

Comments Due: 5 p.m. ET 12/22/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 1, 2016.
Nathaniel J. Davis, Sr.,
Deputy Secretary.

[FR Doc. 2016-29420 Filed 12-7-16; 8:45 am]

BILLING CODE 6717-01-P